DEPARTMENT OF COMMERCE

Census Bureau

Agency Information Collection Activities; Submission to the Office of Management and Budget (OMB) for Review and Approval; Comment Request; Business Trends and Outlook Survey (BTOS)

AGENCY: Census Bureau, Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed revisions to the BTOS prior to the submission of the information collection request (ICR) to OMB for approval.

DATES: To ensure consideration, comments regarding this proposed information collection must be received on or before February 18, 2025.

ADDRESSES: Interested persons are invited to submit written comments by email to Thomas.J.Smith@census.gov. Please reference BTOS in the subject line of your comments. You may also submit comments, identified by Docket Number USCB-2024-0034, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Catherine Buffington, Chief, Economic Indicator Division, 301-763-1838, and catherine.d.buffington@census.gov.

SUPPLEMENTARY INFORMATION:

I. Abstract

The U.S. Census Bureau plans to request a 3-year extension with revisions from the Office of Management and Budget (OMB) for the Business Trends and Outlook Survey (BTOS). The BTOS has produced data products on a bi-weekly basis since October 2022. This continuous near real time data collection and publication provides a baseline of the U.S. economy and measures change as a result of current and future economic shocks.

BTOS uses ongoing data collection to produce high frequency, timely, and granular information about current economic conditions and trends. BTOS is the only biweekly business tendency survey produced by the federal statistical system, providing unique and detailed data during times of economic or other emergencies. The BTOS target population is all nonfarm employer businesses with receipts of $1,000 or more in the United States, the District of Columbia, and Puerto Rico. The current sample consists of approximately 1.2 million businesses divided into six panels. A new sample collection is conducted each year. Data collection occurs every two weeks, and businesses in each panel are asked to report once every 12 weeks for one year. Data are released every 2 weeks and are available by 2017 North American Industry Classification System (NAICS) sector, state, the 25 most populous Metropolitan Statistical Areas and employment size. Data are also available by subsector (3-digit NAICS) and sector by employment size.

Data from BTOS are currently used to provide timely data to understand the economic conditions being experienced by businesses; BTOS provides near real time data on key items such as revenue, paid employees, hours worked as well as inventories. BTOS also provides high level information on the changing share of businesses facing difficulties stemming from supply chain issues, interest rate changes, and/or weather-related events. Previously, there had been few data sources available to policymakers, media outlets, and academia that delivered near real time insights into economic trends and outlooks. BTOS data has consistently been used by the Small Business Administration to evaluate the impact of regulatory changes.

The BTOS collects the following high-level topics for the previous two weeks, and the items in bold have 6-month future projections:

• Overall performance

• Revenue

• Employment

• Hours worked

• Artificial Intelligence

• Operating status

• Inventories

• Delivery time

• Demand

• Output prices

• Input prices

• Interest Rates

• Loss—Weather Event

For the first year of BTOS, the content remained unchanged at 26 questions. For the second sample year, the BTOS moved to a set of core questions and supplemental content. Supplemental content is designed to provide urgently needed data on an emerging or current issue. For the first collection of supplemental content, the topic was on business use of artificial intelligence. Due to vast demand to continue this data series, the Census Bureau plans to request a revision to include the artificial intelligence supplement again for the fourth sample year of BTOS.

BTOS data is collected in near real time and disseminated as experimental products. BTOS data is experimental with the goal of meeting Census Bureau quality standards for regularly occurring, non-experimental statistics.

II. Method of Collection

The first time each biweekly panel is in sample, businesses are contacted either by email or letter with an invitation to respond to the survey. For each biweekly survey panel, initial letters are sent on the Friday before the 2-week period while initial emails are sent on the first Monday of the 2-week period. Starting with the second time each biweekly panel is in sample, businesses are contacted only by email with an invitation to respond to the survey. Both letter and email invitations describe the purpose of the survey collection, include the link to the online reporting tool, and contain the access code.

III. Data

OMB Control Number: 0607-1022.

Form Number(s): None.

Type of Review: Regular submission, Request for a Revision of a Currently Approved Collection.

Affected Public: Business or other for-profit organizations.

Estimated Number of Respondents: 795,000 responses collected annually.

Estimated Time per Response: 10 minutes.

Estimated Total Annual Burden Hours: 132,500.

Estimated Total Annual Cost to Public: $0 (This is not the cost of respondents' time, but the indirect costs respondents may incur for such things as purchases of specialized software or hardware needed to report, or expenditures for accounting or records maintenance services required specifically by the collection.)

Respondent's Obligation: Voluntary.

Legal Authority: Title 13 U.S.C., Sections 131 and 182.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Clearance Officer, Office of the Under Secretary for Economic Affairs, Commerce Department.

[FR Doc. 2024-29834 Filed 12-17-24; 8:45 am]

BILLING CODE 3510-07-P